DEPARTMENT OF HEALTH AND HUMAN SERVICES

Food and Drug Administration

[Docket Nos. 99D-4575 and 99D-4576]

Agency Information Collection Activities; Announcement of OMB Approval; Food Additives; Food-Contact Substances Notification System

AGENCY: Food and Drug Administration, HHS.

ACTION: Notice.

SUMMARY: The Food and Drug Administration (FDA) is announcing that a collection of information entitled “Food Additives; Food-Contact Substances Notification System” has been approved by the Office of Management and Budget (OMB) under the Paperwork Reduction Act of 1995.

FOR FURTHER INFORMATION CONTACT: Peggy Schlosburg, Office of Information Resources Management (HFA-250), Food and Drug Administration, 5600 Fishers Lane, Rockville, MD 20857, 301-827-1223.

SUPPLEMENTARY INFORMATION: In the Federal Register of May 31, 2000 (65 FR 34713), the agency announced that the proposed information collection had been submitted to OMB for review and clearance under 44 U.S.C. 3507. This information collection considers only those submissions required by statute under section 409(h)(1) of the Federal Food, Drug, and Cosmetic Act (the act) (21 U.S.C. 348(h)(1)).

In a proposed rule published in the Federal Register of July 13, 2000 (65 FR 43269), FDA requested approval for the information collection required by statute under section 409(h)(1) of the act plus additional information collection that regulated industry has requested FDA to accept. The information collection burden discussed in the July 13, 2000, proposed rule will be considered by OMB in light of this approval, and comments received in response to the additional information collection in the proposed rule.

An agency may not conduct or sponsor, and a person is not required to respond to, a collection of information unless it displays a currently valid OMB control number. OMB has now approved the information collection and has assigned OMB control number 0910-0444. The approval expires on August 31, 2003. A copy of the supporting statement for this information collection is available on the Internet at http://www.fda.gov/ohrms/dockets.

Dated: August 28, 2000.
William K. Hubbard,
Senior Associate Commissioner for Policy, Planning, and Legislation.

[FR Doc. 00-22701 Filed 9-5-00; 8:45 am]

BILLING CODE 4160-01-F